DEPARTMENT OF THE INTERIOR

Bureau of Land Management

[LLNVL01000 L14300000.EU0000 241A; N-86667; 10-08807; MO #4500012445; TAS: 14X5232]

Notice of Realty Action: Competitive Auction of Public Lands in White Pine County, NV

AGENCY: Bureau of Land Management, Interior.

ACTION: Notice of Realty Action.

SUMMARY: The Bureau of Land Management (BLM) proposes to offer one parcel of public land of approximately 2.5 acres in White Pine County, Nevada for competitive sale at not less than the appraised fair market value (FMV). The sale will be subject to the applicable provisions of Sections 203 and 209 of the Federal Land Policy and Management Act of 1976 (FLPMA), 43 U.S.C. 1713 and 1719, respectively, and the BLM land sale and mineral conveyance regulations at 43 CFR 2710 and 2720.

DATES: Interested persons may submit written comments regarding this proposed sale of public lands until August 16, 2010. If the BLM decision is to proceed with the sale, a sale date and time will be announced in local news papers and on the BLM Ely website at least 15 days in advance of the sale. In no case will the lands be sold prior to 60 days following publication of this Notice of Realty Action.

ADDRESSES: Written comments may be submitted by mail: BLM Manager, Egan Field Office, 702 North Industrial Way, HC 33 Box 33500, Ely, Nevada 89301; Fax: 775-289-1910, Attn: Cynthia Longinetti; or e-mail: Cynthia_Longinetti@blm.gov.

FOR FURTHER INFORMATION CONTACT: Cynthia Longinetti at 775-289-1809 or e-mail: Cynthia_Longinetti@blm.gov.

SUPPLEMENTARY INFORMATION: The following described land is located southwest of Ely, Nevada, about 11 miles northwest of Lund, Nevada, at the junction of U.S. Highway 6 and State Route 318, and is legally described as:

Mount Diablo Meridian, Nevada

T. 13 N., R. 61 E.

Sec. 9, SW¼NE¼SW¼SW¼.

The area described contains 2.5 acres, more or less.

This parcel of public land is proposed for competitive auction at not less than the appraised FMV of $6,900. Maps delineating the proposed sale parcel will be available for public review at the following Web site: http://www.blm.gov/nv/ (click on the Ely District), and at the BLM Ely District Office, until August 16, 2010.

Consistent with Section 203 of FLPMA, the tract of public lands may be sold as a result of approved land use planning if the sale of the tract meets the disposal criteria. The sale is in conformance with the Ely District Record of Decision and Resource Management Plan (RMP), approved in August 2008. The BLM has determined that the proposed action conforms to the RMP (LR-11) under the authority of FLPMA. The lands are also identified as suitable for disposal and are in compliance with Public Law 109-432, the Tax Relief and Health Care Act of 2006. No significant resource values will be affected by this disposal. This parcel is not required for any Federal purposes.

These public lands have been examined and found suitable for disposal using competitive sale procedures at 43 CFR 2711-3-1. The use of competitive sale procedures is consistent with 43 CFR 2710.0-6(c)(3)(i), which states “this title is the general procedure for sales of public lands and may be used where there would be a number of interested parties bidding for the lands and (A) wherever in the judgment of the authorized officer the lands are accessible and usable regardless of adjoining land ownership.”

If the BLM decides to proceed with the sale, a public auction will be scheduled to be held at the BLM Ely District Office, 702 North Industrial Way, Ely, Nevada. This oral auction will be a day event. Bidding on the subject parcel will begin at the established FMV. At the conclusion of the auction, the person declared to have entered the highest qualifying oral bid shall submit a bid deposit of not less than 20 percent of the successful high bid amount. Failure to submit the deposit will result in forfeiture of the sale offer. If the high bidder is unable to consummate the transaction, the second-highest bidder's bid may then be considered for award.

Payment must be in the form of a bank draft, cashier's check, certified check or U.S. postal money order, or any combination thereof, and made payable in U.S. dollars to the Department of the Interior—Bureau of Land Management, immediately following the close of the sale. Personal or company checks will not be accepted. No contractual or other rights against the United States may accrue until BLM officially accepts the offer to purchase and the full bid price is paid.

The remainder of the purchase price must be paid prior to the expiration of the 180th day following the date of the sale offer. Failure to pay the full price prior to the expiration of the 180th day will disqualify the apparent high bidder and cause the 20 percent bid deposit to be forfeited to the BLM. Forfeiture of the 20 percent bid deposit is in accordance with 43 CFR 2711.3-1(d). No exceptions will be made. Arrangements for electronic fund transfer to BLM for the balance due shall be made a minimum of 2 weeks prior to the payment date.

Terms and Conditions: Certain minerals of the parcel will be reserved in accordance with the BLM's Mineral Potential report, dated June 2, 2009. An offer to purchase these parcels will constitute an application for mineral conveyance of the “no known value” mineral interests. In conjunction with the final payment, the applicant will be required to pay a $50 non-refundable filing fee for processing the conveyance of the “no known value” mineral interests which will be sold simultaneously with the surface interests. The following numbered terms, conditions, and reservations will appear on the conveyance document for the parcel.

1. A right-of-way is reserved for ditches and canals constructed by authority of the United States under the Act of August 30, 1890 (43 U.S.C. 945).

2. Oil, gas, and geothermal resources are reserved to the United States, its permittees, licensees and lessees, together with the right to prospect for, mine, and remove the minerals under applicable law and such regulations as the Secretary of the Interior may prescribe, along with all necessary access and exit rights.

3. The parcel is subject to valid existing rights.

4. Under 43 CFR 2711.1-3, the grazing permittee has unconditionally waived the 2-year prior notification by signing the proper form.

5. By accepting this patent, the patentee agrees to indemnify, defend, and hold the United States harmless from any costs, damages, claims, causes of action, penalties, fines, liabilities, and judgments of any kind or nature arising from the past, present, and future acts or omissions of the patentee, its employees, agents, contractors, or lessees, or any third-party, arising out of or in connection with the patentee's use, occupancy, or operations on the patented real property. This indemnification and hold harmless agreement includes, but is not limited to, acts and omissions of the patentee, its employees, agents, contractors, or lessees, or any third party, arising out of or in connection with the use and/or occupancy of the patented real property which has already resulted or does hereafter result in: (1) Violations of Federal, state, and local laws and regulations that are now or may in the future become, applicable to the real property; (2) judgments, claims or demands of any kind assessed against the United States; (3) costs, expenses, or damages of any kind incurred by the United States; (4) releases or threatened releases of solid or hazardous waste(s) and/or hazardous substance(s), as defined by Federal or state environmental laws, off, on, into or under land, property and other interests of the United States; (5) activities by which solid waste or hazardous substances or waste, as defined by Federal and state environmental laws are generated, released, stored, used or otherwise disposed of on the patented real property, and any cleanup response, remedial action or other actions related in any manner to said solid or hazardous substances or wastes; or (6) natural resource damages as defined by Federal and state law. This covenant shall be construed as running with the patented real property, and may be enforced by the United States in a court of competent jurisdiction.

6. Pursuant to the requirements established by Section 120(h) of the Comprehensive Environmental Response, Compensation, and Liability Act, 42 U.S.C. 9620(h) (CERCLA), as amended by the Superfund Amendments and Reauthorization Act of 1988, 100 Stat. 1670, notice is hereby given that the above-described lands have been examined and no evidence was found to indicate that any hazardous substances has been stored for 1 year or more, nor had any hazardous substances been disposed of or released on the subject property.

No warranty of any kind, express or implied, is given by the United States as to the title, whether or to what extent the land may be developed, its physical condition, future uses, or any other circumstance or condition. The conveyance of the parcel will not be on a contingency basis. However, to the extent required by law, the parcel is subject to the requirements of Section 120(h) of the CERCLA.

Federal law requires that bidders must be (1) United States citizens 18 years of age or older; (2) a corporation subject to the laws of any state or of the United States; (3) an entity including, but not limited to associations or partnerships capable of acquiring and owning real property, or interests therein, under the laws of the State of Nevada; or (4) a state, state instrumentality, or political subdivision authorized to hold real property. U.S. citizenship is evidenced by presenting a birth certificate, passport, or naturalization papers. Failure to submit the above requested documents to the BLM within 30 days from receipt of the high bidder letter shall result in the cancellation of the bid.

Parcels may be subject to land use applications received prior to publication of this notice if processing the application would have no adverse effect on the marketability of title, or the FMV of the parcel. Encumbrances of record that may appear in the BLM public files for the parcel proposed for sale are available for review during business hours, 7:30 a.m. to 4:30 p.m., Pacific Time (PT), Monday through Friday, at the Ely District Office, except during federally recognized holidays.

The parcel is subject to limitations prescribed by law and regulation and prior to patent issuance, a holder of any right-of-way within the parcel may be given the opportunity to amend the right-of-way for conversion to a new term, including perpetuity, if applicable, or to an easement.

The BLM will notify valid existing right-of-way holders of their ability to convert their compliant rights-of-way to perpetual rights-of-way or easements. Each valid holder will be notified in writing of their rights and then must apply for the conversion of their current authorization.

Unless other satisfactory arrangements are approved in advance by a BLM authorized officer, conveyance of title shall be through the use of escrow. Designation of the escrow agent shall be through mutual agreement between the BLM and the prospective patentee, and costs of escrow shall be borne by the prospective patentee.

Requests for all escrow instructions must be received by the Ely District Office prior to 30 days before the bidder's scheduled closing date. There are no exceptions.

All name changes and supporting documentation must be received at the Ely District Office 30 days from the date on the high bidder letter by 4:30 p.m. PT. Name changes will not be accepted after that date. To submit a name change, the apparent high bidder must submit the name change on the Certificate of Eligibility form to the Ely District Office in writing. Certificate of Eligibility forms are available at the Ely District Office and at the BLM Web site at: http://www.blm.gov/nv/ (click on the Ely District).

The BLM will not sign any documents related to 1031 Exchange transactions. The timing for completion of the exchange is the bidder's responsibility in accordance with Internal Revenue Service regulations. The BLM is not a party to any 1031 Exchange.

All sales are made in accordance with and subject to the governing provisions of law and applicable regulations.

In accordance with 43 CFR 2711.3-1(f), the BLM may accept or reject any or all offers to purchase, or withdraw any parcel of land or interest therein from sale, if, in the opinion of a BLM authorized officer, consummation of the sale would be inconsistent with any law, or for other reasons.

If the parcel is not sold by competitive sale auction, it may be identified for sale at a later date without further legal notice.

On publication of this notice and until completion of the sale, the BLM is no longer accepting land use applications affecting the parcel identified for sale. However, land use applications may be considered after completion of the sale if the parcel is not sold.

In order to determine the FMV, certain assumptions may have been made concerning the attributes and limitations of the lands and potential effects of local regulations and policies on potential future land uses. Through publication of this notice, the BLM advises that these assumptions may not be endorsed or approved by units of local government. It is the buyer's responsibility to be aware of all applicable Federal, state, and local government laws, regulations and policies that may affect the subject lands, including any required dedication of lands for public uses. It is also the buyer's responsibility to be aware of existing or prospective uses of nearby properties. When conveyed out of Federal ownership, the lands will be subject to any applicable laws, regulations, and policies of the applicable local government for proposed future uses. It will be the responsibility of the purchaser to be aware through due diligence of those laws, regulations, and policies, and to seek any required local approvals for future uses. Buyers should also make themselves aware of any Federal or state law or regulation that may impact the future use of the property. Any land lacking access from a public road or highway will be conveyed as such, and future access acquisition will be the responsibility of the buyer.

Only written comments will be considered properly filed.

Before including your address, phone number, e-mail address, or other personal identifying information in your comment, you should be aware that your entire comment, including your personal identifying information, may be made publicly available at any time. While you can ask us in your comment to withhold your personal identifying information from public review, we cannot guarantee that we will be able to do so.

(Authority: 43 CFR 2711)

Jeffrey A. Weeks,
Field Manager, Egan Field Office.

[FR Doc. 2010-16140 Filed 7-1-10; 8:45 am]

BILLING CODE 4310-HC-P